DEPARTMENT OF COMMERCE

International Trade Administration

[A-580-839]

Notice of Initiation and Preliminary Results of Changed Circumstances Antidumping Duty Review: Certain Polyester Staple Fiber From the Republic of Korea

AGENCY: Import Administration, International Trade Administration, Department of Commerce.

SUMMARY: The Department of Commerce (“Department”) received a request for initiation of a changed circumstances review of the antidumping duty order on polyester staple fiber (“PSF”) from the Republic of Korea (“Korea”) from Woongjin Chemical Co. Ltd. (“Woongjin”). After reviewing this request, we preliminarily determine that Woongjin is the successor-in-interest to Saehan Industries Inc. (“Saehan”), and as a result, should be accorded the same treatment previously accorded Saehan with regard to the antidumping duty order on PSF from Korea. Interested parties are invited to comment on these preliminary results.

EFFECTIVE DATE: June 16, 2008.

FOR FURTHER INFORMATION CONTACT: Devta Ohri, AD/CVD Operations, Office 1, Import Administration, International Trade Administration, U.S. Department of Commerce, 14th Street and Constitution Avenue, NW., Washington DC 20230; telephone (202) 482-3853.

SUPPLEMENTARY INFORMATION:

Background

On May 25, 2000, the Department of Commerce issued an antidumping duty order on certain PSF from Korea. See Notice of Amended Final Determination of Sales at Less Than Fair Value and Antidumping Duty Order: Certain Polyester Staple Fiber from Republic of Korea, 65 FR 33807 (May 25, 2000).

On April 23, 2008, Woongjin requested that the Department initiate a changed circumstances review of the antidumping duty order on PSF from Korea to determine that, for purposes of the antidumping law, Woongjin is the successor-in-interest to Saehan. See April 23, 2008, letter from Woongjin.

Saehan was a producer and exporter of PSF from Korea that participated in the administrative review covering the period May 1, 2002, through April 30, 2003. As a result of this review, Saehan received a cash deposit rate of 2.13 percent. See Certain Polyester Staple Fiber From Korea: Final Results of Antidumping Duty Administrative Review and Final Determination To Revoke the Order in Part, 69 FR 61341 (October 18, 2004); amended by Notice of Amended Final Results of Antidumping Duty Administrative Review: Certain Polyester Staple Fiber from Korea, 69 FR 67891 (November 22, 2004). Saehan has not participated in any other administrative reviews of PSF from Korea.

Scope of the Review

For the purposes of this order, the product covered is PSF. PSF is defined as synthetic staple fibers, not carded, combed or otherwise processed for spinning, of polyesters measuring 3.3 decitex (3 denier, inclusive) or more in diameter. This merchandise is cut to lengths varying from one inch (25 mm) to five inches (127 mm). The merchandise subject to this order may be coated, usually with a silicon or other finish, or not coated. PSF is generally used as stuffing in sleeping bags, mattresses, ski jackets, comforters, cushions, pillows, and furniture. Merchandise of less than 3.3 decitex (less than 3 denier) currently classifiable in the Harmonized Tariff Schedule of the United States (“HTSUS”) at subheading 5503.20.00.25 is specifically excluded from this order. Also specifically excluded from this order are polyester staple fibers of 10 to 18 denier that are cut to lengths of 6 to 8 inches (fibers used in the manufacture of carpeting). In addition, low-melt PSF is excluded from this order. Low-melt PSF is defined as a bi-component fiber with an outer sheath that melts at a significantly lower temperature than its inner core.

The merchandise subject to this order is currently classifiable in the HTSUS at subheadings 5503.20.00.45 and 5503.20.00.65. Although the HTSUS subheadings are provided for convenience and customs purposes, the written description of the merchandise under the order is dispositive.

Initiation and Preliminary Results of Changed Circumstances Review

Pursuant to section 751(b)(1) of the Tariff Act of 1930, as amended (“the Act”), and 19 CFR 351.216, the Department will conduct a changed circumstances review upon receipt of information concerning, or a request from an interested party for review of, an antidumping duty order which shows changed circumstances sufficient to warrant a review of the order. In this case, the Department finds that the information submitted by the respondent provides sufficient evidence of changed circumstances to warrant a review to determine whether Woongjin is the successor-in-interest to Saehan. Thus, in accordance with section 751(b) of the Act, the Department is initiating a changed circumstances review to determine whether Woongjin is the successor-in-interest to Saehan for purposes of determining antidumping duty liability with respect to imports of PSF from Korea.

Furthermore, 19 CFR 351.221(c)(3)(ii) permits the Department to combine the notice of initiation of a changed circumstances review and the notice of preliminary results in a single notice if the Department concludes that expedited action is warranted. In this case, we find that the evidence provided by Woongjin is sufficient to preliminarily determine that its change of corporate name from Saehan to Woongjin, resulting from a change in stock ownership along with a change of some of the board of directors, did not affect the company's operations.

In making a successor-in-interest determination, the Department examines several factors including, but not limited to, changes in: (1) Management; (2) production facilities; (3) supplier relationships; and (4) customer base. See, e.g., Notice of Final Results of Changed Circumstances Antidumping Duty Administrative Review: Polychloroprene Rubber From Japan, 67 FR 58 (January 2, 2002); Brass Sheet and Strip from Canada: Final Results of Antidumping Duty Administrative Review, 57 FR 20460, 20462 (May 13, 1992). While no single factor or combination of factors will necessarily provide a dispositive indication of a successor-in-interest relationship, the Department will generally consider the new company to be the successor to the previous company if the new company's resulting operation is not materially dissimilar to that of its predecessor. See, e.g., Fresh and Chilled Atlantic Salmon from Norway; Final Results of Changed Circumstances Antidumping Duty Administrative Review, 64 FR 9979 (March 1, 1999); Industrial Phosphoric Acid from Israel; Final Results of Changed Circumstances Review, 59 FR 6944 (February 14, 1994). Thus, if the evidence demonstrates that, with respect to the production and sale of the subject merchandise, the new company operates as the same business entity as the former company, the Department will accord the new company the same antidumping treatment as its predecessor.

In accordance with 19 CFR 351.221(c)(3)(ii), we preliminarily determine that Woongjin is the successor-in-interest to Saehan. In its April 23, 2008 submission, Woongjin provided evidence supporting its claim to be the successor-in-interest to Saehan. Documentation attached to Woongjin's April 23, 2008, submission shows that the purchase of 50 percent of Saehan's shares by the Woongjin Group, and the subsequent name change to Woongjin resulted in little or no change in management, production facilities, supplier relationships, or customer base. This documentation consists of:

(1) A list of major shareholders along with their percentage holdings before and after the name change;

(2) A list of the board of directors before and after the name change demonstrating that those members of the board involved in the day-to-day activities of the company, including the President, the Business Administration Division Director, and the Auditor, have all remained the same;

(3) Saehan shareholder meeting minutes regarding the name change;

(4) Saehan's and Woongjin's business registration certificate which demonstrates that despite the name change, the business registration number remained the same;

(5) Certificate of corporate registration that demonstrated the name change from Saehan to Woongjin;

(6) Announcement to Saehan's customers of the name change;

(7) Corporate organizational charts demonstrating that the organizational structure remained unchanged despite the name change;

(8) Organizational charts of the PSF production and sales divisions demonstrating that the organizational structure remained unchanged before and after the name change;

(9) Woongjin's Internet Web site demonstrating that Saehan is now Woongjin;

(10) A list of suppliers before and after the name change demonstrating that Woongjin has maintained Saehan's supplier relationships with only some minor variations (which Woongjin explains are due to timing changes and normal business turnover); and

(11) A list of customers before and after the name change demonstrating that Woongjin has maintained Saehan's customer base with only some minor variations (which Woongjin explains are due to timing changes and normal business turnover).

The documentation described above demonstrates that there was little or no change in management structure, supplier relationships, production facilities, or customer base. Therefore, we determine that expedited action is warranted and we preliminarily find that Woongjin is the successor-in-interest to Saehan and, thus, should receive the same antidumping duty treatment with respect to PSF from Korea. Because we have concluded that expedited action is warranted, we are combining these notices of initiation and preliminary results.

Public Comment

Any interested party may request a hearing within 30 days of publication of this notice. Any hearing, if requested, will be held no later than 44 days after the date of publication of this notice, or the first workday thereafter. Persons interested in attending the hearing, if one is requested, should contact the Department for the date and time of the hearing.

Case briefs from interested parties may be submitted not later than 30 days after the date of publication of this notice. Rebuttal briefs, limited to the issues raised in those comments, may be filed not later than 37 days after the date of publication of this notice. All written comments shall be submitted in accordance with 19 CFR 351.303. The Department will publish the final results of this changed circumstances review, in accordance with 19 CFR 351.216(e).

The current requirement for a cash deposit of estimated antidumping duties on all subject merchandise will continue unless and until it is modified pursuant to the final results of this changed circumstances review.

We are issuing and publishing these results and notice in accordance with sections 751(b)(1) and 777(i)(1) and (2) of the Act and 19 CFR 351.216.

Dated: June 6, 2008.
David M. Spooner,
Assistant Secretary for Import Administration.

[FR Doc. E8-13506 Filed 6-13-08; 8:45 am]

BILLING CODE 3510-DS-P